DEPARTMENT OF THE TREASURY

Financial Crimes Enforcement Network

Proposed Collection; Comment Request; Renewal Without Change of the FinCEN Form 8300

AGENCY: Financial Crimes Enforcement Network (FinCEN), U.S. Department of the Treasury.

ACTION: Notice and request for comments.

SUMMARY: FinCEN, a bureau of the U.S. Department of the Treasury (“Treasury”), invites all interested parties to comment on its proposed renewal without change to the collection of information through Form 8300, Report of Cash Payments Over $10,000 Received in a Trade or Business. This request for comments is made pursuant to the Paperwork Reduction Act (“PRA”) of 1995, Public Law 104-13, 44 U.S.C. 3506(c)(2)(A).

DATES: Written comments should be received on or before June 23, 2014 to be assured of consideration.

ADDRESSES: Written comments should be submitted to: Policy Division, Financial Crimes Enforcement Network, U.S. Department of the Treasury, P.O. Box 39, Vienna, Virginia 22183. Attention: PRA Comments—Form 8300 Renewal. Comments also may be submitted by electronic mail to the following Internet address: regcomments@fincen.gov with the caption in the body of the text, “Attention: PRA Comments—Form 8300 Renewal.”

Inspection of comments. Comments may be inspected, between 10 a.m. and 4 p.m., in the FinCEN reading room in Vienna, VA. Persons wishing to inspect the comments submitted must request an appointment with the Disclosure Officer by telephoning (703) 905-3591 (not a toll free call).

FOR FURTHER INFORMATION CONTACT: The FinCEN Resource Center at 800-767-2825.

SUPPLEMENTARY INFORMATION: Title: Report of Cash Payments Over $10,000 Received in a Trade or Business.

Office of Management and Budget (“OMB”) Number: 1506-0018.

Form Number: 8300.

Abstract: The statute generally referred to as the “Bank Secrecy Act,” Titles I and II of Public Law 91-508, as amended, codified at 12 U.S.C. 1829b, 12 U.S.C. 1951-1959, and 31 U.S.C. 5311-5332, authorizes the Secretary of the Treasury, among other things, to require financial institutions to keep records and file reports that are determined to have a high degree of usefulness in criminal, tax, and regulatory matters, or in the conduct of intelligence or counter-intelligence activities to protect against international terrorism, and to implement counter-money laundering programs and compliance procedures.¹ Regulations implementing Title II of the Bank Secrecy Act appear at 31 CFR Chapter X.

¹ Language expanding the scope of the Bank Secrecy Act to intelligence or counter-intelligence activities to protect against international terrorism was added by Section 358 of the Uniting and Strengthening America by Providing Appropriate Tools Required to Intercept and Obstruct Terrorism Act of 2001, Public Law 107-56.

The authority of the Secretary to administer the Bank Secrecy Act has been delegated to the Director of FinCEN.

Section 365 of the USA PATRIOT Act of 2001 (Pub. L. 107-56), adding new section 5331 to Title 31 of the United States Code, authorized FinCEN to collect the information reported on Form 8300. The information collected on Form 8300 is required to be provided pursuant to 31 U.S.C. 5331, as implemented by FinCEN regulations found at 31 CFR 1010.331.

The regulations require any person in a trade or business who, in the course of the trade or business, receives more than $10,000 in cash or foreign currency in one or more related transactions to report it to FinCEN and provide a statement to the person. The information collected under this requirement is made available to appropriate agencies and organizations as disclosed in FinCEN's Privacy Act System of Records Notice relating to BSA Reports.²

² Treasury Department bureaus such as FinCEN renew their System of Records Notices every three years unless there is cause to amend them more frequently. FinCEN's System of Records Notice for the BSA Report System was most recently published at 77 FR 60014, October 1, 2012.

Current Action: A renewal without change to the current Form 8300. The report is accessible on the FinCEN Web site at: http://www.fincen.gov/forms/files/fin8300_cashover10k.pdf.

Type of Review: Renewal without change of a currently approved collection.

Affected Public: Businesses or other for-profit organizations, farms, and the Federal government.

Frequency: As required.

Estimated Number of Respondents: 46,800.

Estimated Time per Respondent: 45 minutes.

Estimated Total Annual Burden Hours: 35,100.³

³ The burden for the information collection in 31 CFR 1010.330, (also approved under control number 1506-0018), is reflected in the burden of the form and includes reporting and recordkeeping.

An agency may not conduct or sponsor, and a person is not required to respond to, a collection of information unless the collection of information displays a valid OMB control number. In accordance with 31 CFR 1010.330(e)(3), a person required to make a report under this section must keep a copy of each report filed for five years from the date of filing.

Request for Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Dated: April 16, 2014.
Jennifer Shasky Calvery,
Director, Financial Crimes Enforcement Network.

[FR Doc. 2014-09032 Filed 4-21-14; 8:45 am]

BILLING CODE 4810-02-P